DEPARTMENT OF COMMERCE

International Trade Administration

[A-357-812]

Honey from Argentina: Preliminary Results of Antidumping Duty Administrative Review and Intent Not to Revoke in Part

AGENCY: Import Administration, International Trade Administration, Department of Commerce.

SUMMARY: In response to requests by interested parties, the Department of Commerce (the Department) is conducting an administrative review of the antidumping duty order on honey from Argentina. The review covers five firms, two of which were selected as mandatory respondents (see “Background” section of this notice for further explanation). The period of review (POR) is December 1, 2005, through November 30, 2006.

We preliminarily determine that sales of honey from Argentina have not been made below the normal value by both mandatory respondents during the period of review. In addition, we will preliminarily apply the average of the dumping margins calculated for both ACA and Seylinco as the review-specific rate for the three companies subject to this review but not selected as respondents (i.e., Patagonik S.A. (Patagonik), Naiman S.A. (Naiman), and El Mana S.A. (El Mana)). For more detail, see the “Background” section below; see also “Preliminary Results of Review,” below. If these preliminary results are adopted in our final results of administrative review, we will issue appropriate assessment instructions to U.S. Customs and Border Protection (CBP). Interested parties are invited to comment on these preliminary results. Parties who submit argument in these proceedings are requested to submit with the argument: (1) a statement of the issues, (2) a brief summary of the argument, and (3) a table of authorities.

EFFECTIVE DATE: December 28, 2007.

FOR FURTHER INFORMATION CONTACT: Maryanne Burke, Deborah Scott, or Robert James, AD/CVD Operations, Office 7, Import Administration, International Trade Administration, U.S. Department of Commerce, 14th Street and Constitution Avenue, NW, Room 7866, Washington, DC 20230; telephone (202) 482-5604, (202) 482-2657, or (202) 482-0649, respectively.

SUPPLEMENTARY INFORMATION:

Background

On December 10, 2001, the Department published the antidumping duty order on honey from Argentina. See Notice of Antidumping Duty Order: Honey from Argentina, 66 FR 63672 (December 10, 2001). On December 1, 2006, the Department published its opportunity to request a review. See Antidumping or Countervailing Duty Order, Finding, or Suspended Investigation; Opportunity to Request Administrative Review, 71 FR 69543 (December 1, 2006). On December 29, 2006, the American Honey Producers Association and the Sioux Honey Association (collectively, petitioners) requested an administrative review of the antidumping duty order on honey from Argentina for the period December 1, 2005, through November 30, 2006. Petitioners requested that the Department review entries of subject merchandise made by nine Argentine producers/exporters, six of which also filed individual requests for review with the Department. In addition, the Department received one request from a producer/exporter that was not included in petitioners' request for review. On February 2, 2007, the Department initiated a review of these ten¹ companies. See Initiation of Antidumping and Countervailing Duty Administrative Reviews and Request for Revocation in Part, 72 FR 5005 (February 2, 2007).

¹ The Federal Register notice lists 11 companies; however, in a previous segment of this proceeding the Department treated two affiliates as a single entity. No new evidence has been presented in this segment of the proceeding to warrant changing this treatment.

On January 23, 2007, the Department issued quantity and value questionnaires to each of the ten companies covered by the review. On March 9, 2007, petitioners timely withdrew their request for review of three of the ten companies. On March 27, 2007, the Department determined that, because it was not feasible to examine all seven of the remaining producers/exporters of subject merchandise, the most appropriate methodology for purposes of this review was to select the four largest producers/exporters by export volume as respondents: ACA, Seylinco, Mielar/CAA, and Nexco S.A. (Nexco). The Department stated it would apply a review-specific average margin to those companies not selected, i.e., Patagonik S.A. (Patagonik), Naiman S.A. (Naiman), and El Mana S.A. (El Mana). See Memorandum to Stephen J. Claeys, Deputy Assistant Secretary for Import Administration, “Selection of Respondents,” dated March 27, 2007. Also, on March 27, 2007, the Department issued sections A, B, and C of the antidumping questionnaire to all exporters subject to the review.

On April 23, 2007, Nexco withdrew its request for a review; petitioners also withdrew their request for a review of Nexco on April 24, 2007. Accordingly, the Department published a notice of partial rescission in response to petitioners' and respondent's withdrawal of the review of Nexco, as well as petitioners' original request for withdrawal of the three following companies: Agroin Las Piedras Ltda., Seabird Argentina S.A., and Ultramar Argentina S.A. See Honey from Argentina: Notice of Partial Rescission of Antidumping Duty Administrative Review, 72 FR 33740 (June 19, 2007).

On July 17, 2007, both petitioners and respondent company Mielar/CAA withdrew their requests for an administrative review. Accordingly, on September 4, 2007, the Department published a notice of partial rescission of review with regard to Mielar/CAA and also extended the time limit for issuance of the preliminary results of this administrative review to December 20, 2007. See Honey from Argentina: Notice of Extension of Time Limit for Preliminary Results and Partial Rescission of Antidumping Duty Administrative Review, 72 FR 50661 (September 4, 2007).

With respect to the two remaining mandatory respondents, ACA and Seylinco, the chronology of this review is as follows. We received ACA's response to section A on April 25, 2007, and its response to sections B and C on May 22, 2007. On April 27, 2007, we received Seylinco's response to section A, and we received its response to sections B and C on June 5, 2007. On July 5, 2007, petitioners filed separate deficiency comments regarding the responses by ACA and Seylinco to sections A through C of the Department's questionnaire. ACA submitted a response to petitioners' comments on July 25, 2007, and Seylinco responded to petitioners' comments on July 31, 2007. The Department issued a supplemental questionnaire to ACA for section A on August 24, 2007, to which ACA responded on September 19, 2007. The Department then issued ACA a supplemental questionnaire for sections B and C on September 28, 2007, to which ACA responded on October 31, 2007. The Department issued another supplemental questionnaire to ACA for sections A, B, and C on November 21, 2007. ACA submitted its narrative response and sales files to this supplemental questionnaire on December 4, 2007 and the related attachments on December 5, 2007. Finally, the Department issued a supplemental questionnaire to ACA on December 14, 2007, to which ACA provided a response on December 18, 2007. For Seylinco, the Department issued a supplemental questionnaire for sections A, B, and C on August 31, 2007; Seylinco responded to section A of the supplemental questionnaire on September 21, 2007 and sections B and C on September 27, 2007. On October 3, 2007, we issued a second supplemental questionnaire to Seylinco for sections A, B, and C, to which Seylinco responded on October 22, 2007. On October 25, 2007, the Department requested clarification of Seylinco's second supplemental questionnaire response to which Seylinco provided support documentation on November 16, 2007. See Memorandum to the File, “Honey from Argentina; Clarification of Respondent's Second Supplemental Response,” dated November 9, 2007. Finally, we issued a third supplemental questionnaire to Seylinco on November 26, 2007, to which Seylinco responded on December 5, 2007.

On June 18, 2007, petitioners submitted a letter alleging that ACA had made comparison market sales of honey at prices below the cost of production (COP) during the POR. On August 23, 2007, the Department determined that petitioners' COP allegation provided a reasonable basis on which to initiate a sales below cost investigation for ACA. See Memorandum to Richard Weible, Director, Office 7, “Petitioners Allegations of Sales Below the Cost of Production in the December 1, 2005-November 30, 2006 Administrative Review,” dated August 23, 2007 (Cost Initiation Memorandum). On September 6, 2007, we issued a memorandum indicating we had selected ACA's three largest beekeeper suppliers as respondents in the sales below cost investigation. See Memorandum to Richard Weible, Director, Office 7, “Selection of Cost of Production Respondents,” dated September 6, 2007 (Cost Selection Memorandum).

On September 21, 2007, the Department issued section D of the antidumping duty questionnaire to solicit COP data from the three selected beekeeper suppliers (Beekeeper 1, Beekeeper 2, and Beekeeper 3).² We received Beekeeper 1's response to section D on October 19, 2007, Beekeeper 3's response on October 22, 2007, and Beekeeper 2's response on October 26, 2007. On November 9, 2007, we issued supplemental questionnaires for section D to each of the beekeepers, to which each beekeeper responded on November 27, 2007. On November 30, 2007, the Department issued another supplemental questionnaire to Beekeepers 1, 2, and 3; each beekeeper provided its response on December 10, 2007.

² The three beekeepers' names are business proprietary information.

Scope of the Review

The merchandise covered by this order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by this order is currently classifiable under subheadings 0409.00.00, 1702.90.90, and 2106.90.99 of the Harmonized Tariff Schedule of the United States (HTSUS). Although the HTSUS subheadings are provided for convenience and customs purposes, the Department's written description of the merchandise under this order is dispositive.

Intent Not To Revoke In Part

The Department's procedures for revoking an antidumping duty order, whether in whole or in part, are found at 19 CFR 351.222. Section 351.222(e) of the Department's regulations requires, inter alia, that a company requesting revocation submit the following: (1) a certification that the company has sold the subject merchandise at not less than normal value in the current review period and that the company will not sell at less than normal value in the future; (2) a certification that the company sold subject merchandise in commercial quantities in each of the three years forming the basis of such a request; and (3) an agreement that the order will be reinstated if the company is subsequently found to be selling the subject merchandise at less than fair value. In determining whether to revoke an antidumping duty order in part, the Department must ascertain that the party sold merchandise at not less than normal value (i.e., at zero or de minimis margins) for a period of at least three consecutive years. See 19 CFR 351.222(b)(2); see also Stainless Steel Flanges from India: Notice of Final Results of Antidumping Administrative Review and Revocation in Part, 70 FR 39997 (July 12, 2005).

On December 29, 2006, Seylinco submitted a request for revocation of the antidumping duty order with the requisite certifications set forth in 19 CFR 351.222(e). Seylinco based its request on the absence of dumping for the four most recent review periods, 2002-2003, 2003-2004, 2004-2005 and the current administrative review. The Department found zero dumping margins in the 2002-2003, 2003-2004 and 2004-2005 administrative reviews. See Honey from Argentina: Final Results of Antidumping Duty Administrative Review, 70 FR 19926 (April 15, 2005); see also Honey from Argentina: Final Results, Partial Rescission of Antidumping Duty Administrative Review and Determination Not to Revoke in Part, 71 FR 26333 (May 4, 2006) and Honey from Argentina: Final Results of Antidumping Duty Administrative Review and Determination Not to Revoke in Part, 72 FR 25245 (May 4, 2007), respectively.

In the current administrative review, we have preliminarily determined a weighted-average margin of zero percent for Seylinco. The margin calculated during the current review period constitutes one of the reviews cited by Seylinco in support of its request for revocation under section 351.222(b) of the Department's regulations. However, we have also examined Seylinco's shipments over the past three PORs and have preliminarily determined that, pursuant to 19 CFR 351.222(d)(1), Seylinco has not shipped in commercial quantities in each of the three years forming the basis of the request for revocation. Accordingly, we hereby preliminarily find that, relative to shipment levels characteristic of the respondent and the industry as a whole, Seylinco is not eligible for revocation of the order. See undated 2004-2005 Memorandum to Richard Weible, Director, through Robert James, Program Manager, from Maryanne Burke, Case Analyst, “Request by Seylinco S.A. (Seylinco) for Revocation in the Antidumping Duty Administrative Review of Honey from Argentina,” placed on the record of this review on November 9, 2007.

Product Comparison

In accordance with section 771(16) of the Tariff Act of 1930, as amended (the Tariff Act), we considered all sales of honey covered by the description in the “Scope of the Review” section of this notice, supra, which were sold in the appropriate third-country markets during the POR to be the foreign like product for the purpose of determining appropriate product comparisons to honey sold in the United States. For our discussion of market viability and selection of comparison market, see the “Normal Value” section of this notice, infra. We matched products based on the physical characteristics reported by ACA and Seylinco. Where there were no sales of identical merchandise in the third-country market to compare to U.S. sales, we compared U.S. sales to the next most similar foreign like product on the basis of the characteristics and reporting instructions listed in the antidumping duty questionnaire and instructions, or to constructed value (CV), as appropriate.

Level of Trade

In accordance with section 773(a)(1)(B)(i) of the Tariff Act, to the extent practicable, we determine normal value based on sales in the home market at the same level of trade (LOT) as export price (EP) or the constructed export price (CEP). The normal value LOT is based on the starting price of the sales in the comparison market or, when normal value is based on CV, that of the sales from which we derive selling, general and administrative (SG&A) expenses and profit. For CEP, it is the level of the constructed sale from the exporter to an affiliated importer after the deductions required under section 772(d) of the Tariff Act. In this review, both ACA and Seylinco claimed only EP sales.

To determine whether normal value sales are at a different LOT than EP, we examine stages in the marketing process and selling functions along the chain of distribution between the producer and the unaffiliated customer. If the comparison market sales are at a different LOT and the difference affects price comparability, as manifested in a pattern of consistent price differences between the sales on which NV is based and comparison market sales at the LOT of the export transaction, we make a LOT adjustment under section 773(a)(7)(A) of the Tariff Act.

For sales in both the third-country market and the United States, ACA reported two LOTs corresponding to differing channels of distribution: (1) sales to packers and (2) sales to importers. Differing channels of distribution, alone, do not qualify as separate LOTs when selling functions performed for each customer class are sufficiently similar. See 19 CFR 351.412(c)(2). We found that the selling functions ACA provided to its reported channels of distribution in the third-country and U.S. markets were virtually the same, varying only by the degree to which testing and warranty services were provided. We do not find the varying degree of testing and warranty services alone sufficient to determine the existence of different marketing stages. Thus, we have preliminarily determined there is only one LOT for ACA's sales in both the comparison and U.S. markets, and have not made a LOT adjustment. See “Analysis Memorandum for Preliminary Results of the Antidumping Duty Review on Honey from Argentina for Asociacion de Cooperativas Argentinas” (ACA Preliminary Analysis Memorandum), dated December 19, 2007.

Seylinco reported a single LOT for all U.S. and third-country sales. Seylinco claimed its sales were made directly to unaffiliated customers in both the United States and Germany and that the selling activities in both markets are identical. For Seylinco, we preliminarily determine that all reported sales are made at the same LOT, and therefore we have not made a LOT adjustment. See “Analysis Memorandum for Preliminary Results of the Antidumping Duty Review on Honey from Argentina for Seylinco S.A.” (Seylinco Preliminary Analysis Memorandum), dated December 19, 2007.

Transactions Reviewed

Section 351.401(i) of the Department's regulations states the Department normally will use the date of invoice, as recorded in the exporter's or producer's records kept in the ordinary course of business, as the date of sale, but may use a date other than the date of invoice if it better reflects the date on which the material terms of sale are established. For ACA, consistent with its practice, the Department used the reported shipment date as the date of sale for both the third-country and U.S. market.³ Petitioners have argued the Department should use date of contract as the date of sale in this review, claiming that all of the terms of sale were set at the time of contract and remained unaltered through shipment to both the United States and all third country markets. See, e.g., petitioners' letter dated November 15, 2007. However, we examined this issue thoroughly in the original investigation of honey from Argentina involving ACA and found that changes to the essential terms of sale did and do occur between the contract date and the time of the actual shipment by ACA. See Memorandum to the File from Deborah Scott, dated December 19, 2007. As a result, in each subsequent POR, we used the date of shipment for ACA as the date of sale. Furthermore, in the instant POR, we found that actual changes did occur between contract date and shipment date with respect to the type of honey sold to the customer. Consequently, we determine that changes to the essential terms of sale continue to occur between the contract date and shipment date and therefore shipment date continues to be the appropriate date of sale with respect to ACA's sales in the U.S. and comparison markets. For Seylinco, the Department used the invoice date as the date of sale for both its comparison and U.S. market sales. However, in some instances shipment occurred prior to invoice, and consistent with past segments of this proceeding and the Department's practice, we used the shipment date as the date of sale for those sales.

³ When shipment occurs prior to invoice date, as in the case of ACA's sales in both the U.S. and third-country markets, it is the Department's practice to use the shipment date as the date of sale rather than the invoice date. See, e.g., Honey from Argentina: Preliminary Results and Partial Rescission of Antidumping Duty Administrative Review and Intent Not to Revoke in Part, 70 FR 76766, 76768 (December 28, 2005), unchanged in Honey from Argentina: Final Results, Partial Rescission of Antidumping Duty Administrative Review and Determination Not to Revoke in Part, 71 FR 26333 (May 4, 2006); see also Notice of Final Determinations of Sales at Less Than Fair Value: Certain Durum Wheat and Hard Red Spring Wheat from Canada, 68 FR 52741 (September 5, 2003) and the accompanying Issues and Decision Memorandum at Comment 3.

Export Price and Constructed Export Price

Section 772(a) of the Tariff Act defines EP as “the price at which the subject merchandise is first sold (or agreed to be sold) before the date of importation by the producer or exporter of subject merchandise outside of the United States to an unaffiliated purchaser in the United States or to an unaffiliated purchaser for exportation to the United States. . .,” as adjusted under section 772(c). Section 772(b) of the Tariff Act defines CEP as “the price at which the subject merchandise is first sold (or agreed to be sold) in the United States before or after the date of importation by or for the account of the producer or exporter of such merchandise or by a seller affiliated with the producer or exporter, to a purchaser not affiliated with the producer or exporter,” as adjusted under sections 772(c) and (d). ACA and Seylinco have classified their U.S. sales as EP because all of their sales were made before the date of importation directly to unaffiliated purchasers in the U.S. market. For purposes of these preliminary results, we have accepted these classifications. For ACA, we based EP on prices to unaffiliated customers in the United States and made adjustments for movement expenses. For Seylinco, we calculated EP based on the prices to unaffiliated customers in the United States and made adjustments for billing adjustments and movement expenses.

Normal Value

1. Selection of Comparison Market

In accordance with section 773(a)(1)(C) of the Tariff Act, to determine whether there was a sufficient volume of sales in the home market to serve as a viable basis for calculating NV (i.e., the aggregate volume of home market sales of the foreign like product is greater than or equal to five percent of the aggregate volume of U.S. sales), we compared each company's aggregate volume of home market sales of the foreign like product to its aggregate volume of U.S. sales of subject merchandise. Because Seylinco did not have any home market sales, we preliminarily find that Seylinco's home market does not provide a viable basis for calculating NV. ACA did have some home market sales; however, the volume of its home market sales was less than five percent of the aggregate volume of U.S. sales. As a result, we preliminarily find that ACA's home market does not provide a viable basis for calculating NV.

When sales in the home market are not suitable to serve as the basis for NV, section 773(a)(1)(B)(ii) of the Tariff Act provides that sales to a third-country market may be utilized if (i) the prices in such market are representative; (ii) the aggregate quantity of the foreign like product sold by the producer or exporter in the third-country market is five percent or more of the aggregate quantity of the subject merchandise sold in or to the United States; and (iii) the Department does not determine that a particular market situation in the third-country market prevents a proper comparison with the U.S. price. Seylinco reported Germany as its largest third-country market during the POR in terms of volume of sales. The aggregate quantity of such sales is greater than five percent of sales to the United States, and there is no information on the record to suggest that any other market would provide greater product similarity. The Department preliminarily determines that the prices in Germany are representative and no particular market situation exists that would prevent a proper comparison to EP. As a result, for Seylinco we based NV on its sales to Germany for these preliminary results.

ACA reported its sales to the United Kingdom, the largest third-country market in terms of sales volume when date of shipment is used to determine date of sale. Based on information on the record, we find that while the United Kingdom does constitute the largest third-country market, the sales volumes to ACA's three reported largest third-country markets are comparable. Petitioners have claimed the Department should select one of ACA's other reported third-country markets as the comparison market since prices to the United Kingdom are not representative and the merchandise sold in the other third-country markets was more similar in terms of product standards (i.e., level of contamination) and not homogenized. See, e.g., petitioners' letters dated July 5, 2007 and October 4, 2007.

The record shows, however, that ACA's sales to the United Kingdom have more product matches to its sales in the United States than do ACA's sales to its other two largest third-country markets. See section 351.404(e) of the Department's regulations. Further, we do not find that the price differences among ACA's third-country markets support petitioners' assertion that prices to the United Kingdom are not representative. Since we preliminarily find ACA's sales volume to the United Kingdom is greater than five percent of its sales to the United States, prices to the United Kingdom are representative, greater product similarity exists with respect to ACA's sales to the United Kingdom and the United States, and no particular market situation exists that would prevent a proper comparison to EP, in accordance with section 773(a)(1)(B)(ii) of the Tariff Act, we preliminarily find that ACA's sales to the United Kingdom serve as the most appropriate basis on which to base NV.

In summary, therefore, NV for ACA and Seylinco is based on each exporter's third-country market sales to unaffiliated purchasers made in commercial quantities and in the ordinary course of trade. For NV, we used the prices at which the foreign like product was first sold for consumption in the usual commercial quantities, in the ordinary course of trade, and, to the extent possible, at the same LOT as the EP. We calculated NV as noted in the “Price-to-Price Comparisons” section of this notice.

2. Cost of Production

As noted above, in response to petitioners' allegation that ACA sold the foreign like product at prices below its COP, the Department initiated a sales below cost investigation of ACA. With respect to Seylinco, because we did not find sales below cost in the most recently completed segment of this proceeding and because petitioners made no allegation of sales below cost in the context of this review, the Department determined there were not reasonable grounds to believe or suspect that Seylinco made sales in the comparison market at prices below the cost of producing the merchandise in this review. Therefore, the Department did not initiate a sales below cost investigation of Seylinco.

A. Cost of Production Analysis

To calculate a COP and CV for the merchandise under consideration, the Department selected the three largest beekeepers by volume who supplied honey to ACA during the POR. See Cost Selection Memorandum.

B. Calculation of COP

We calculated a simple average COP for ACA based on the costs of the three respondent suppliers, Beekeeper 1, Beekeeper 2, and Beekeeper 3. For additional detail, see Memorandum to Neal M. Halper, Director of Office of Accounting, “Cost of Production and Constructed Value Calculation Adjustments for the Preliminary Results - Asociacion de Cooperativas Argentinas' Beekeeper Respondents,” dated December 19, 2007.

We relied on the COP data submitted by the three respondent beekeepers in their cost questionnaire responses, with the following adjustments. We adjusted the reported feed costs for Beekeepers 1, 2, and 3 to reflect the data available from public sources, as the Beekeepers provided insufficient documentation to support their reported feed costs. In addition, we revised Beekeeper 1's reported general and administrative (G&A) and financial expenses by including the land use cost for Beekeeper 1's dairy and beekeeping activities, as well as the adjusted feed cost and revenue from the sale of by-products, in the denominator used to calculate the G&A and financial expense rate for this beekeeper so that the ratio would be on the same basis as the costs to which it was applied. For Beekeepers 2 and 3 we also adjusted the denominator of the G&A ratio to include the adjusted feed costs.

C. Test of Third-Country Prices and Results of the Cost of Production Test

We calculated a simple average COP using the COP of ACA's three respondent suppliers (Beekeeper 1, Beekeeper 2, and Beekeeper 3) which was applied to these beekeepers as well as all other beekeeper suppliers from whom information was not requested. In determining whether to disregard third-country market sales made at prices below the COP, in accordance with sections 773(b)(1)(A) and (B) of the Tariff Act, we examined: (1) whether, within an extended period of time, such sales were made in substantial quantities; and (2) whether such sales were made at prices which permitted the recovery of all costs within a reasonable period of time in the normal course of trade. Where less than 20 percent of the respondent's third-country market sales of a given model (i.e., control number, or CONNUM) were at prices below the COP, we did not disregard any below-cost sales of that model because we determined that the below-cost sales were not made within an extended period of time and in “substantial quantities.” Where 20 percent or more of the respondent's third-country market sales of a given model were at prices less than COP, we disregarded the below-cost sales because: (1) they were made within an extended period of time in “substantial quantities,” in accordance with sections 773(b)(2)(B) and (C) of the Tariff Act; and (2) based on our comparison of prices to the COP for the POR, they were at prices which would not permit the recovery of all costs within a reasonable period of time, in accordance with section 773(b)(2)(D) of the Tariff Act.

We found ACA did not have any models for which 20 percent or more of sales volume (by weight) were below cost during the POR. Therefore we did not disregard any of ACA's third-country market sales and included all such sales in our calculation of normal value.

Price-to-Price Comparisons

ACA

We based normal value on the third-country prices to unaffiliated purchasers. We made adjustments, where applicable, for movement expenses in accordance with section 773(a)(6)(B) of the Tariff Act. Where appropriate, we made circumstance-of-sale adjustments for credit pursuant to section 773(a)(6)(C) of the Tariff Act. We also made adjustments, where applicable, for other direct selling expenses, in accordance with section 773(a)(6)(C) of the Tariff Act. We preliminarily reclassified some of ACA's reported direct selling expenses (namely, certain of its expenses related to testing) as indirect selling expenses, consistent with our treatment of testing expenses in the 2003-2004 administrative review. See Honey from Argentina: Final Results, Partial Rescission of Antidumping Duty Administrative Review and Determination Not to Revoke in Part, 71 FR 26333 (May 4, 2006) and the accompanying Issues and Decision Memorandum at Comment 2. In addition, for those direct selling expenses which ACA reported as being associated with the homogenization process, we preliminarily find these are properly considered as production costs, not selling expenses. Thus, we have not included ACA's testing and homogenization expenses among the direct selling expenses for which we made adjustments in these preliminary results. For more information, see ACA Preliminary Analysis Memorandum.

Seylinco

We based normal value on the third-country prices to unaffiliated purchasers. We made adjustments, where applicable, for movement expenses in accordance with section 773(a)(6)(B) of the Tariff Act. Where appropriate, we made circumstance-of-sale adjustments for credit pursuant to section 773(a)(6)(C) of the Tariff Act. We also made adjustments, where applicable, for other direct selling expenses, in accordance with section 773(a)(6)(C) of the Tariff Act. See Seylinco Preliminary Analysis Memorandum. Additionally, we adjusted gross unit price for billing adjustments, where applicable.

Currency Conversions

The Department's preferred source for daily exchange rates is the Federal Reserve Bank. See Preliminary Results of Antidumping Duty Administrative Review: Stainless Steel Sheet and Strip in Coils from France, 68 FR 47049, 47055 (August 7, 2003), remaining unchanged in Final Results of Antidumping Duty Administrative Review: Stainless Steel Sheet and Strip in Coils from France, 68 FR 69379 (December 12, 2003). However, the Federal Reserve Bank does not track or publish exchange rates for the Argentine peso. Therefore, we made currency conversions from Argentine pesos to U.S. dollars based on the daily exchange rates from Factiva, a Dow Jones & Reuters Retrieval Service. Factiva publishes exchange rates for Monday through Friday only. We used the rate of exchange on the most recent Friday for conversion dates involving Saturday through Sunday where necessary. For variables that ACA reported in pounds sterling or euros, we made currency conversions into U.S. dollars based on the exchange rates in effect on the dates of the U.S. sales, as certified by the Federal Reserve Bank, in accordance with section 773A(a) of the Tariff Act.

Preliminary Results of Review

As a result of our review, we preliminarily determine the following weighted-average dumping margins exist for the period December 1, 2005 through November 30, 2006:

Exporter | Weighted-Average Margin (percentage)
Asociacion de Cooperativas Argentina | 0.00
Seylinco S.A. | 0.00
Patagonik S.A. | 0.00
Naiman S.A. | 0.00
El Mana S.A. | 0.00

The Department has, for these preliminary results, applied the average of the rates calculated for the two remaining mandatory respondents, ACA and Seylinco, to the non-reviewed companies, Patagonik, Naiman, and El Mana.

The Department will disclose calculations performed within five days of the date of publication of this notice in accordance with 19 CFR 351.224(b). An interested party may request a hearing within thirty days of publication. See 19 CFR 351.310(c). Any hearing, if requested, will be held 37 days after the date of publication, or the first business day thereafter, unless the Department alters the date pursuant to 19 CFR 351.310(d). Interested parties may submit case briefs or written comments no later than 30 days after the date of publication of these preliminary results of review. Rebuttal briefs and rebuttals to written comments, limited to issues raised in the case briefs and comments, may be filed no later than 35 days after the date of publication of this notice. Parties who submit arguments in these proceedings are requested to submit with the argument: (1) a statement of the issues, (2) a brief summary of the argument, and (3) a table of authorities. Further, parties submitting case briefs, rebuttal briefs, and written comments should provide the Department with an additional copy of the public version of any such argument on diskette. The Department will issue final results of this administrative review, including the results of our analysis of the issues in any such case briefs, rebuttal briefs, and written comments or at a hearing, within 120 days of publication of these preliminary results.

Assessment

The Department shall determine, and CBP shall assess, antidumping duties on all appropriate entries. In accordance with 19 CFR 351.212(b)(1), we calculated importer-specific ad valorem assessment rates for the merchandise based on the ratio of the total amount of antidumping duties calculated for the examined sales made during the POR to the total customs value of the sales used to calculate those duties. These rates will be assessed uniformly on all ACA and Seylinco entries made during the POR. For entries made during the POR from the non-reviewed companies, i.e., Patagonik, Naiman, and El Mana, we will apply the average of the assessment rates calculated for ACA and Seylinco. The Department intends to issue assessment instructions to CBP 15 days after the date of publication of the final results of review.

The Department clarified its “automatic assessment” regulation on May 6, 2003 (68 FR 23954). This clarification will apply to entries of subject merchandise during the period of review produced by companies included in these final results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon completion of the final results of this administrative review for all shipments of honey from Argentina entered, or withdrawn from warehouse, for consumption on or after the publication date of the final results of this administrative review, as provided by section 751(a)(1) of the Tariff Act: (1) the cash deposit rates for all companies covered by this review (i.e., ACA, Seylinco, Patagonik, Naiman, and El Mana) will be the rates established in the final results of review; (2) for any previously reviewed or investigated company not listed above, the cash deposit rate will continue to be the company-specific rate published in the most recent period; (3) if the exporter is not a firm covered in this review or the LTFV investigation, but the manufacturer is, the cash deposit rate will be the rate established for the most recent period for the manufacturer of the merchandise; and (4) if neither the exporter nor the manufacturer is a firm covered in this or any previous review conducted by the Department, the cash deposit rate will be the all-others rate from the investigation (30.24 percent). See Notice of Final Determination of Sales at Less Than Fair Value; Honey From Argentina, 66 FR 50611 (October 4, 2001); see also Notice of Amended Final Determination of Sales at Less Than Fair Value; Honey From Argentina, 66 FR 58434 (November 21, 2001), and Notice of Antidumping Duty Order; Honey From Argentina, 66 FR 63672 (December 10, 2001).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act.

Dated: December 19, 2007.
David M. Spooner,
Assistant Secretary for Import Administration.

[FR Doc. E7-25261 Filed 12-27-07; 8:45 am]

BILLING CODE 3510-DS-S